DEPARTMENT OF THE INTERIOR

[FWS-R4-ES-2018-N110; FVHC98220410150-XXX-FF04G01000]

Deepwater Horizon Oil Spill Draft Restoration Plan 1 and Environmental Assessment; Open Ocean Trustee Implementation Group

AGENCY: Department of the Interior.

ACTION: Notice of availability; request for comments.

SUMMARY: In accordance with the Oil Pollution Act, the National Environmental Policy Act, Deepwater Horizon Oil Spill Final Programmatic Damage Assessment and Restoration Plan and Final Programmatic Environmental Impact Statement, and the resulting Consent Decree, we, the Federal natural resource trustee agencies for the Open Ocean Trustee Implementation Group, have prepared a Draft Restoration Plan 1 and Environmental Assessment (Draft RP1/EA). The Draft RP1/EA proposes three preferred alternatives for the Bird and Sturgeon restoration types, and is intended to continue the process of restoring natural resources and services injured or lost as a result of the Deepwater Horizon oil spill, which occurred on or about April 20, 2010, in the Gulf of Mexico.

DATES: Submitting Comments: We will consider public comments received on or before November 9, 2018.

Public Webinars: We will conduct two webinars to present and facilitate the public review and comment process for the Draft RP1/EA. Comments will not be taken through the public webinars. Comments will be taken only through submission online or via U.S. mail (see ADDRESSES). The public webinars are scheduled as follows:

Date | Time | Webinar link location
October 16, 2018 | 12 p.m. central time | http://www.gulfspillrestoration.noaa.gov/restoration-areas/open-ocean.
October 17, 2018 | 6 p.m. central time | http://www.gulfspillrestoration.noaa.gov/restoration-areas/open-ocean.

ADDRESSES: Obtaining Documents: You may download the Draft RP1/EA from either of the following websites:

• http://www.gulfspillrestoration.noaa.gov

• http://www.doi.gov/deepwaterhorizon

Alternatively, you may request a CD of the Draft RP1/EA (see FOR FURTHER INFORMATION CONTACT).

Submitting Comments: You may submit comments on the Draft RP1/EA by one of the following methods:

• Via the Web: http://www.gulfspillrestoration.noaa.gov.

• Via U.S. Mail: U.S. Fish and Wildlife Service, P.O. Box 49567, Atlanta, GA 30345. In order to be considered, mailed comments must be postmarked on or before the comment deadline given in DATES.

For more information, see Public Availability of Comments under SUPPLEMENTARY INFORMATION.

FOR FURTHER INFORMATION CONTACT: Nanciann Regalado, via email at nanciann_regalado@fws.gov, via telephone at 404-679-4161, or via the Federal Relay Service at 800-877-8339.

SUPPLEMENTARY INFORMATION:

Introduction

On or about April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The Deepwater Horizon oil spill is the largest offshore oil spill in U.S. history, discharging millions of barrels of oil over a period of 87 days. In addition, well over 1 million gallons of dispersants were applied to the waters of the spill area in an attempt to disperse the spilled oil. An undetermined amount of natural gas was also released into the environment as a result of the spill.

The Trustees conducted the natural resource damage assessment (NRDA) for the Deepwater Horizon oil spill under the Oil Pollution Act of 1990 (OPA; 33 U.S.C. 2701 et seq.). Pursuant to the OPA, Federal and State agencies act as trustees on behalf of the public to assess natural resource injuries and losses and to determine the actions required to compensate the public for those injuries and losses. The OPA further instructs the designated trustees to develop and implement a plan for the restoration, rehabilitation, replacement, or acquisition of the equivalent of the injured natural resources under their trusteeship, including the loss of use of and services from those resources from the time of injury until the time of restoration to baseline (the resource quality and conditions that would exist if the spill had not occurred) is complete.

The Deepwater Horizon Trustees are:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

The Trustees reached and finalized a settlement of their natural resource damage claims with BP in an April 4, 2016, Consent Decree approved by the U.S. District Court for the Eastern District of Louisiana. Pursuant to that Consent Decree, restoration projects in the Open Ocean Restoration Area are now selected and implemented by the Open Ocean TIG. The Open Ocean TIG is composed of four federal Trustees: DOI, NOAA, EPA, and USDA.

Background

On March 31, 2017, the Open Ocean TIG posted a public notice at http://www.gulfspillrestoration.noaa.gov, requesting new or revised natural resource restoration project ideas by May 15, 2017, for the Open Ocean Restoration Area for the 2017-20 planning years. The notice stated that the Open Ocean TIG was seeking project ideas for the following Restoration Types: (1) Birds; (2) Sturgeon; (3) Sea Turtles; (4) Marine Mammals; (5) Fish and Water Column Invertebrates; and (6) Mesophotic and Deep Benthic Communities.

On February 7, 2018, the Open Ocean TIG announced that it had initiated drafting of its first and second post settlement draft restoration plans; and that the first plan would include restoration projects for Birds and Sturgeon, while the second plan would include restoration projects for Sea Turtles, Marine Mammals, Fish and Water Column Invertebrates, and Mesophotic and Deep Benthic Communities.

Overview of the Open Ocean TIG Draft RP1/EA

The Draft RP1/EA is being released in accordance with the OPA, NRDA regulations found in the Code of Federal Regulations (CFR) at 15 CFR part 990, NEPA, the Consent Decree, and the Final PDARP/PEIS.

In the Draft RP1/EA, the Open Ocean TIG proposes three preferred alternatives from the Bird and Sturgeon restoration types, at an estimated total cost of $16,000,000. The preferred alternatives include restoration of common loons in Minnesota through conservation easements or fee title acquisitions of loon nesting habitat, breeding habitat enhancements, and reduction in exposure to lead-based fishing tackle; restoration of black terns in the prairie pothole region of North Dakota and South Dakota through conservation easements of black tern nesting habitat; and characterizing Gulf sturgeon spawning habitat, habitat use, and origins of juvenile sturgeon in the Pearl and Pascagoula River Systems in Louisiana and Mississippi. The Open Ocean TIG also analyzes three additional alternatives, as well as the no-action alternative in the Draft RP1/EA. One or more alternatives may be selected for implementation by the Open Ocean TIG in the Final RP1/EA or in future restoration plans.

The proposed alternatives are intended to continue the process of using Deepwater Horizon restoration funding to restore natural resources injured or lost as a result of the Deepwater Horizon oil spill. Additional restoration planning for the Open Ocean Restoration Area will continue.

Next Steps

As described above, two public webinars are scheduled to facilitate the public review and comment process on the Draft RP1/EA. After the public comment period ends, the Open Ocean TIG will consider and address the comments received before issuing a final RP1/EA.

Public Availability of Comments

Before including your address, phone number, email address, or other personal identifying information in your comment, you should be aware that your entire comment—including your personal identifying information—may be made publicly available at any time. While you can ask us in your comment to withhold your personal identifying information from public review, we cannot guarantee that we will be able to do so.

Administrative Record

The documents comprising the Administrative Record for the Draft RP1/EA can be viewed electronically at http://www.doi.gov/deepwaterhorizon/administrativerecord.

Authority

The authority for this action is the Oil Pollution Act of 1990 (33 U.S.C. 2701 et seq.), its implementing Natural Resource Damage Assessment regulations found at 15 CFR part 990, and the National Environmental Policy Act of 1969 (42 U.S.C. 4321 et seq.).

Kevin D. Reynolds,
Assistant Regional Director—Gulf Restoration, FWS; Department of the Interior Natural Resource Trustee Official for the Open Ocean Trustee Implementation Group.

[FR Doc. 2018-21602 Filed 10-5-18; 8:45 am]

BILLING CODE 4333-15-P